DEPARTMENT OF DEFENSE

Department of the Army

Performance Review Boards Membership

AGENCY: Department of the Army, DoD.

ACTION: Notice.

SUMMARY: Notice is given of the names of members of the Performance Review Boards for the Department of the Army.

EFFECTIVE DATE: August 21, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the 2000 Performance Review Board for the U.S. Army Materiel Command are:

1. Major General Bruce K. Scott, Commander, U.S. Army Security Assistance Command, U.S. Army Materiel Command;

2. Major General Paul Glazar, Adjutant of New Jersey;

3. Brigadier General Michael P. Lenears, Commanding General, U.S. Army Armament Research, Development and Engineering Center, U.S. Army Materiel Command;

4. Mr. Victor J. Ferlise, Deputy to the Commander, U.S. Army Communications-Electronics Command, U.S. Army Materiel Command;

5. Ms. L. Marlene Cruze, Executive Director, Acquisition Center, U.S. Army Aviation and Missile Command, U.S. Army Materiel Command;

6. Ms. Kathryn T. Szymanski, Chief Counsel, U.S. Army Communications-Electronics Command, U.S. Army Materiel Command;

7. Mr. Edward G. Elgart, Director, C3I Acquisition Center, U.S. Army Communications-Electronics Command, U.S. Army Materiel Command;

8. Mr. Edward T. Bair, Deputy PEO, Intelligence and Electronic Warfare, Army Acquisition Executive;

9. Ms. Renata F. Price, ADCS for RDA-Science, Technology and Engineering, U.S. Army Materiel Command;

10. Dr. Chine I. Chang, Director, Army Research Office, U.S. Army Materiel Command;

11. Mr. John C. Lawkowski, Assistant Deputy Chief of Staff for Resource Management, U.S. Army Materiel Command;

12. Dr. Mitra Dutta, Director, Research and Technology Integration, U.S. Army Research Office, U.S. Army Materiel Command;

13. Mr. James L. Flinn III, Deputy to the Commanding General, U.S. Army Aviation and Missile Command, U.S. Army Materiel Command;

14. Mr. Paul Bogosian, Deputy PEO-Aviation, Army Acquisition Executive PEO;

15. Mr. Harold Holmes, Deputy for Systems Deployment, National Missile Defense Joint Program Office;

16. Mr. Robert J. Spazzarini, Chief Counsel, U.S. Army Aviation and Missile Command, U.S. Army Materiel Command;

17. Mr. Jimmy C. Morgan, Director, Armament and Chemical Acquisition & Logistics Agency, U.S. Army Materiel Command;

18. Mr. Brian M. Simmons, Technical Director, U.S. Army Test and Evaluation Command, U.S. Army Materiel Command;

19. Mr. David J. Shaffer, Director, U.S. Army Materiel Systems Analysis Activity, U.S. Army Materiel Command;

20. Dr. Narayanaswamy Radhakrishnan, Director, Computational Information Sciences Directorate, U.S. Army Research Laboratory, U.S. Army Materiel Command;

21. Mr. James L. Bacon, Program Manager for Chemical Demil Operations, Army Acquisition Executive;

22. Ms. Melinda McMillon Darby, Deputy Chief of Staff for Personnel, U.S. Army Materiel Command;

23. Mr. Truman W. Howard, Director, Weapon Science Directorate, Research, Development and Engineering Center, U.S. Army Aviation and Missile Command, U.S. Army Materiel Command;

24. Mr. Joseph T. Lehman, Senior Technical Executive for Fire Support, Fire Support Armaments Center (ARDEC), U.S. Army Tank-automotive and Armaments Command, U.S. Army Materiel Command;

25. Mr. Vemula P. Rao, Vice President for Customer Engineering, U.S. Army Tank-automotive and Armaments Command, U.S. Army Materiel Command; and

26. Mr. Anthony A. LaPlaca, Director of CECOM Logistics and Readiness Center, U.S. Army Communications-Electronics Command, U.S. Army Materiel Command.

Gregory D. Showalter,
Army Federal Register, Liaison Officer.

[FR Doc. 00-22220 Filed 8-30-00; 8:45 am]

BILLING CODE 3710-08-P